DEPARTMENT OF COMMERCE

National Oceanic and Atmospheric Administration

[I.D. 120904C]

Marine Mammals and Endangered Species; Permits No. 782-1702-03 and 1409-01

AGENCY: National Marine Fisheries Service (NMFS), National Oceanic and Atmospheric Administration (NOAA), Commerce.

ACTION: Issuance of permit amendment and modification.

SUMMARY: Notice is hereby given that the following applicants have been issued an amendment/modification to their scientific research permit.

Permit No. 782-1702-03 - National Marine Mammal Laboratory, National Marine Fisheries Service, NOAA, 7600 Sand Point Way, NE, BIN C15700, Bldg. 1, Seattle, WA 98115-0070, [Dr. John Bengtson, Principal Investigator]; and

Permit No. 1409-01 - Karen G. Holloway-Adkins [Principal Investigator], Executive Director, East Coast Biologists, Inc. P.O. Box 33715, Indialantic, FL 32903.

ADDRESSES: The amendment, modification and related documents are available for review upon written request or by appointment in the following office(s):

Permits, Conservation and Education Division, Office of Protected Resources, NMFS, 1315 East-West Highway, Room 13705, Silver Spring, MD 20910; phone (301)713-2289; fax (301)713-0376; and

Permit No. 782-1702-03 - Northwest Region, NMFS, 7600 Sand Point Way NE, BIN C15700, Bldg. 1, Seattle, WA 98115-0700; phone (206)526-6150; fax (206)526-6426;

Alaska Region, NMFS, P.O. Box 21668, Juneau, AK 99802-1668; phone (907)586-7221; fax (907)586-7249; and

Southwest Region, NMFS, 501 West Ocean Blvd., Suite 4200, Long Beach, CA 90802-4213; phone (562)980-4001; fax (562)980-4018.

Permit No. 1409-01 - Southeast Region, NMFS, 9721 Executive Center Drive North, St. Petersburg, FL 33702-2432; phone (727)570-5301; fax (727)570-5320.

FOR FURTHER INFORMATION CONTACT: Ruth Johnson, Amy Sloan or Patrick Opay (301)713-2289.

SUPPLEMENTARY INFORMATION: On October 13, 2004, notice was published in the Federal Register (69 FR 60841) that an amendment of permit no. 782-1702-02 and modification of permit no. 1409 had been requested by the above-named organization and individual. The requested amendment and modification have been granted under the authority of the Marine Mammal Protection Act of 1972, as amended (16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-226), and the Fur Seal Act of 1966, as amended (16 U.S.C. 1151 et seq.).

Permit Amendment

Permit No. 782-1702-03 authorizes an increase in the number of California sea lions (Zalophus californianus) that may be accidentally killed from five per year to seven for the year spanning July 1, 2004 to June 30, 2005 (starting July 1, 2005, the authorized accidental mortality would revert to five annually).

Permit Modification

Permit No. 1409-01 authorizes attachment of sonic tags to 15 green sea turtles (Chelonia mydas) to document the movements, foraging locations, behavior, resting sites, and daily movement patterns in nearshore reefs in central Brevard County.

In compliance with the National Environmental Policy Act of 1969 (42 U.S.C. 4321 et seq.), a final determination has been made that the activity proposed in permit 782-1702-03 is categorically excluded from the requirement to prepare an environmental assessment or environmental impact statement. For permit 1409-01 an environmental assessment was prepared analyzing the effects of the permitted activities. After a Finding of No Significant Impact, the determination was made that it was not necessary to prepare an environmental impact statement.

Issuance of these permits, as required by the ESA, was based on a finding that such permits: (1) were applied for in good faith; (2) will not operate to the disadvantage of such endangered species; and (3) are consistent with the purposes and policies set forth in section 2 of the ESA.

Dated: December 27, 2004.
Stephen L. Leathery,
Chief, Permits, Conservation and Education Division, Office of Protected Resources, National Marine Fisheries Service.

[FR Doc. 04-28739 Filed 12-30-04; 8:45 am]

BILLING CODE 3510-22-S